DEPARTMENT OF TRANSPORTATION

Surface Transportation Board

[Docket No. FD 35495]

CSX Transportation, Inc.—Lease Exemption—Consolidated Rail Corporation

AGENCY: Surface Transportation Board, DOT.

ACTION: Notice of Exemption.

SUMMARY: Under 49 U.S.C. 10502, the Board is granting a petition for exemption from the prior approval requirements of 49 U.S.C. 11323-25, for CSX Transportation, Inc. (CSXT), to lease from Consolidated Rail Corporation (Conrail) approximately 1,303 feet of rail line (the Line) in the South Jersey/Philadelphia Shared Assets Area between mileposts 5.20 and 5.45 in Philadelphia, PA. Under the lease, CSXT proposes to construct an additional connection between its Trenton Subdivision Line (Trenton Line) and the Line. The new connection would facilitate operations on the Trenton Line and an Amtrak-owned, Conrail-operated line (the Delair Branch).

DATES: Petitioner has asked for expedited consideration of the petition; consequently, the exemption will be effective on July 16, 2011. Petitions to stay must be filed by July 11, 2011.

ADDRESSES: An original and 10 copies of all pleadings, referring to Docket No. FD 35495, must be filed with the Surface Transportation Board, 395 E Street, SW., Washington, DC 20423-0001. In addition, one copy of all pleadings must be served on petitioner's representative: Louis E. Gitomer, 600 Baltimore Ave., Suite 301, Towson, MD 21204.

FOR FURTHER INFORMATION CONTACT: Joseph H. Dettmar, (202) 245-0395. [Assistance for the hearing impaired is available through the Federal Information Relay Service (FIRS) at 1-800-877-8339.]

SUPPLEMENTARY INFORMATION: The Board granted the petition by decision served on July 6, 2011, subject to standard employee protective conditions.

Board decisions and notices are available on our Web site at: http://www.stb.dot.gov.

Decided: June 30, 2011.
By the Board, Chairman Elliott, Vice Chairman Begeman, and Commissioner Mulvey.
Jeffrey Herzig,
Clearance Clerk.

[FR Doc. 2011-16870 Filed 7-5-11; 8:45 am]

BILLING CODE 4915-01-P